DEPARTMENT OF ENERGY

Federal Energy Regulatory Commission

Combined Notice of Filings #2

Take notice that the Commission received the following electric corporate filings:

Docket Numbers: EC16-34-000.

Applicants: C.P. Crane LLC, Raven Power Marketing LLC.

Description: Joint Application of C.P. Crane LLC and Raven Power Marketing LLC for Authorization under Section 203 of the FPA, and Requests for Shortened Comment Period, Expedited Action, Waivers of Filing Requirements and Confidential Treatment.

Filed Date: 11/13/15.

Accession Number: 20151113-5197.

Comments Due: 5 p.m. ET 12/4/15.

Take notice that the Commission received the following exempt wholesale generator filings:

Docket Numbers: EG16-20-000.

Applicants: Black Oak Wind, LLC.

Description: Self-Certification of EWG status of Black Oak Wind, LLC.

Filed Date: 11/13/15.

Accession Number: 20151113-5133.

Comments Due: 5 p.m. ET 12/4/15.

Take notice that the Commission received the following electric rate filings:

Docket Numbers: ER16-319-000.

Applicants: PJM Interconnection, L.L.C.

Description: Section 205(d) Rate Filing: Revisions to OATT Schedule 12 Appdx A—RTEP Approved by the PJM Board Oct 2015 to be effective 2/11/2016.

Filed Date: 11/13/15.

Accession Number: 20151113-5135.

Comments Due: 5 p.m. ET 12/4/15.

Docket Numbers: ER16-320-000.

Applicants: Midcontinent Independent System Operator, Inc., Wolverine Power Supply Cooperative, Inc., Michigan Electric Transmission Company, LLC.

Description: Section 205(d) Rate Filing: 2015-11-13_SA 2818 METC-Wolverine Amended E&P (J392) to be effective 11/14/2015.

Filed Date: 11/13/15.

Accession Number: 20151113-5147.

Comments Due: 5 p.m. ET 12/4/15.

Docket Numbers: ER16-321-000.

Applicants: Evergreen Wind Power II, LLC.

Description: Section 205(d) Rate Filing: Revised Market-Based Rate Tariff to be effective 1/12/2016.

Filed Date: 11/13/15.

Accession Number: 20151113-5149.

Comments Due: 5 p.m. ET 12/4/15.

Docket Numbers: ER16-322-000.

Applicants: Blue Sky West, LLC.

Description: Section 205(d) Rate Filing: Revised Market-Based Rate Tariff to be effective 1/12/2016.

Filed Date: 11/13/15.

Accession Number: 20151113-5150.

Comments Due: 5 p.m. ET 12/4/15.

Docket Numbers: ER16-323-000.

Applicants: Ohio Valley Electric Corporation.

Description: Compliance filing: Application for MBR to be effective 1/12/2016.

Filed Date: 11/13/15.

Accession Number: 20151113-5179.

Comments Due: 5 p.m. ET 12/4/15.

Docket Numbers: ER16-324-000.

Applicants: Midcontinent Independent System Operator, Inc.

Description: Section 205(d) Rate Filing: 2015-11-13_SA 2864 Consumers-Wolverine E&P Agreement (J392) to be effective 11/14/2015.

Filed Date: 11/13/15.

Accession Number: 20151113-5190.

Comments Due: 5 p.m. ET 12/4/15.

Docket Numbers: ER16-325-000.

Applicants: EDF Energy Services, LLC.

Description: Section 205(d) Rate Filing: Compliance 2015 to be effective 11/16/2015.

Filed Date: 11/13/15.

Accession Number: 20151113-5209.

Comments Due: 5 p.m. ET 12/4/15.

Docket Numbers: ER16-326-000.

Applicants: EDF Industrial Power Services (CA), LLC.

Description: Section 205(d) Rate Filing: Compliance 2015 to be effective 11/16/2015.

Filed Date: 11/13/15.

Accession Number: 20151113-5210.

Comments Due: 5 p.m. ET 12/4/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2015.
Nathaniel J. Davis, Sr.,
Deputy Secretary.

[FR Doc. 2015-29511 Filed 11-18-15; 8:45 am]

BILLING CODE 6717-01-P